DEPARTMENT OF HEALTH AND HUMAN SERVICES

[Document Identifier: OS-0990-New]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Regional Extension Center (REC) Cooperative Agreement Program OMB No. 0990-NEW—Office of the National Coordinator for Health Information Technology.

Abstract: The REC Cooperative Agreement program has been targeted as the Department of Health and Human Services' (HHS) high priority programs and is supportive of HHS Strategic Goal 1: Health Care, objective 1.3: Improve health care quality, safety, cost, and value. Each Regional Center is required to plan and implement the outreach, education and technical assistance necessary to meet the objective of assisting providers in its geographic service area to achieve meaningful use of electronic health records (EHR). Each Center is required to report data on a monthly basis, throughout the 24-month duration of the first project period, including the number of providers registered via signed agreements with the REC, the number of providers who have purchased and are using an ONC-certified HER, with e-prescribing and quality reporting functionalities, and the number of providers who have become meaningful users of EHR, in a certification process determined by the Center for Medicaid and Medicare Services (CMS). The tool provides a data hub and central location for program participants to collect this data. Additionally, it allows for the synergy of grantee business processes and technology to increase transparency, portability, and accuracy of ONC-monthly and ARRA-quarterly reporting requirements.

Estimated Annualized Burden Table
Forms (if necessary) | Type of respondent | Number of respondents | Number of responses per respondent | Average burden hours per response | Total burden hours
CRM Tool | Regional Extension Center | 60 | 12 | 1.5 | 1,080

Seleda Perryman,
Office of the Secretary, Paperwork Reduction Act Clearance Officer.

[FR Doc. 2010-15802 Filed 6-29-10; 8:45 am]

BILLING CODE 4150-45-P